ENVIRONMENTAL PROTECTION AGENCY

[EPA-HQ-OPP-2008-0518; FRL-8380-5]

Chloropicrin, Dazomet, Metam Sodium/Potassium, and Methyl Bromide Reregistration Eligibility Decisions; Notice of Availability; Extension of Comment Period

AGENCY: Environmental Protection Agency (EPA).

ACTION: Notice; extension of comment period.

SUMMARY: On July 16, 2008, EPA issued a notice in the Federal Register announcing the availability of the Reregistration Eligibility Decisions (REDs) for the soil fumigant pesticides chloropicrin, dazomet, metam sodium/potassium, and methyl bromide. The notice also announced a 60-day public comment period. This document is extending the comment period for 45 days, from September 15, 2008, to October 30, 2008.

DATES: Comments, identified by the docket identification (ID) number must be received on or before October 30, 2008.

ADDRESSES: Follow the detailed instructions as provided under ADDRESSES in the Federal Register notice of July 16, 2008.

FOR FURTHER INFORMATION CONTACT: For pesticide-specific information contact: The Chemical Review Manager listed in the Federal Register notice of July 16, 2008.

For general information contact: John Leahy, Special Review and Reregistration Division (7508P), Office of Pesticide Programs, Environmental Protection Agency, 1200 Pennsylvania Ave., NW., Washington, DC 20460-0001; telephone number: (703) 305-6703; fax number: (703) 308-8090; e-mail address: leahy.john@epa.gov.

SUPPLEMENTARY INFORMATION:

I. What Action is EPA Taking?

This document extends the public comment period for the fumigants chloropicrin, dazomet, metam potassium/sodium, and methyl bromide established in the Federal Register issued on July 16, 2008 (73 FR 40871, FRL-8372-3). In that document, EPA announced the availability of the REDs and opened a 60-day public comment period. EPA is hereby extending the comment period, which was set to end on September 15, 2008, to October 30, 2008.

To submit comments, or access the public docket, please follow the detailed instructions as provided under ADDRESSES in the July 16, 2008, Federal Register notice (73 FR 40871).

II. What is the Agency's Authority for Taking this Action?

Section 4(g)(2) of the Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period if additional time for comment is requested. In this case, the Methyl Bromide Industry Panel (MBIP), California Specialty Crops Council, the Chloropicrin Manufacturers' Task Force (CMTF), the National Association of Manufacturers (NAM), the American Nursery and Landscape Association (ANLA), the California Strawberry Nurserymen's Association, the Agricultural Retailers Association, the American Forest and Paper Association, and McDermott, Will, and Emery LLP, on behalf of the Minor Crop Farmer Alliance (MCFA), have requested additional time to develop comments. These groups represent manufacturers and users of the soil fumigants. The Agency believes that an additional 45 days is warranted.

List of Subjects

Environmental protection, Fumigants, Pesticides and pests.

Dated: August 25, 2008.
Steven Bradbury,
Director, Special Review and Reregistration Division, Office of Pesticide Programs.

[FR Doc. E8-20141 Filed 8-28-08; 8:45 am]

BILLING CODE 6560-50-S